OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Deborah Grade, Director, Washington Services Branch, Center for Talent Services, Division for Human Resources Products and Services. (202) 606-5027.

SUPPLEMENTARY INFORMATION: Appearing in the listing below are the individual authorities established under Schedule C between December 1, 2003 and December 31, 2003. Future notices will be published on the fourth Tuesday of each month, or as soon as possible thereafter. A consolidated listing of all authorities as of June 30 is published each year.

Schedule A

No Schedule A appointments for December 2003.

Schedule B

No Schedule B appointments for December 2003.

Schedule C

The following Schedule C appointments were approved for December 2003:

Section 213.3303 Executive Office of the President

Office of Management and Budget

BOGS00040 Deputy to the Associate Director for Legislative Affairs (Senate) to the Assistant Director for Legislative Affairs. Effective December 4, 2003.

Office of National Drug Control Policy

QQGS00025 Legislative Analyst to the Associate Director, Legislative Affairs. Effective December 3, 2003.

Office of the United States Trade Representative

TNGS00012 Confidential Assistant to the United States Trade Representative. Effective December 9, 2003.

Section 213.3304 Department of State

DSGS60718 Protocol Officer to the Deputy Chief of Protocol.

Effective December 11, 2003.

Section 213.3305 Department of the Treasury

DYGS00437 Special Assistant to the Deputy Assistant Secretary and Chief Human Capital Officer. Effective December 31, 2003.

Section 213.3306 Department of the Defense

DDGS16737 Defense Fellow to the Special Assistant to the Secretary of Defense for White House Liaison. Effective December 4, 2003.

DDGS16776 Special Assistant to the Principal Deputy Under Secretary of Defense (Comptroller) and Deputy Under Secretary of Defense (Management Reform). Effective December 16, 2003.

DDGS16780 Special Assistant to the Assistant Secretary of Defense (Legislative Affairs). Effective December 17, 2003.

DDGS00757 Special Assistant to the Under Secretary of Defense (Policy). Effective December 22, 2003.

DDGS00770 Staff Assistant to the Principal Deputy Assistant Secretary of Defense (International Security Affairs). Effective December 30, 2003.

Section 213.3310 Department of Justice

DJGS00390 Counsel to the Assistant Attorney General (Legal Counsel). Effective December 30, 2003.

Section 213.3311 Department of Homeland Security

DMGS00162 Director of Community Affairs to the Assistant Secretary for Plans, Programs and Budgets. Effective December 2, 2003.

DMGS00166 Executive Assistant to the Director, State and Local Affairs. Effective December 2, 2003.

DMGS00170 Special Assistant (Advance/External Affairs) to the Under Secretary for Emergency Preparedness and Response. Effective December 4, 2003.

DMGS00149 Executive Assistant to the Ombudsman. Effective December 9, 2003.

DMGS00154 Legislative Policy Advisor to the Assistant Secretary for Border and Transportation Security Policy. Effective December 9, 2003.

DMGS00160 Director of Transportation Security Policy for Border and Transportation Security to the Assistant Secretary for Border and Transportation Security Policy. Effective December 9, 2003.

DMGS00165 Deputy Chief of Staff for Operations to the Chief of Staff. Effective December 9, 2003.

DMGS00156 Plans and Operations Integration Officer to the Special Assistant. Effective December 11, 2003.

DMGS00167 Executive Assistant to the Under Secretary for Emergency Preparedness and Response. Effective December 11, 2003.

DMGS00169 Executive Assistant to the Director, Office of International Affairs. Effective December 11, 2003.

DMGS00177 Deputy White House Liaison to the White House Liaison. Effective December 12, 2003.

DMGS00158 Deputy Director of Communications for Emergency Preparedness and Response to the Assistant Secretary for Public Affairs. Effective December 17, 2003.

DMGS00168 Operations Assistant to the Special Assistant. Effective December 18, 2003.

DMGS00175 Logistics Coordinator to the Executive Director, Homeland Security Advisory Council. Effective December 18, 2003.

DMGS00121 Executive Assistant to the General Counsel. Effective December 19, 2003.

DMGS00178 Legislative Assistant to the Assistant Secretary for Legislative Affairs. Effective December 19, 2003.

DMGS00157 Business Liaison to the Special Assistant. Effective December 23, 2003.

DMGS00163 Director of Cargo and Trade Policy for Border and Transportation Security to the Assistant Secretary for Border and Transportation Security Policy. Effective December 23, 2003.

DMGS00164 Special Assistant to the Under Secretary for Information Analysis and Infrastructure Protection. Effective December 24, 2003.

DMGS00182 Executive Assistant to the Chief of Staff. Effective December 31, 2003.

Section 213.3312 Department of the Interior

DIGS01589 Director of Communications to the Executive Director, Take Pride in America. Effective December 2, 2003.

Section 213.3313 Department of Agriculture

DAGS00202 Special Assistant to the Under Secretary for Rural Development. Effective December 12, 2003.

DAGS60386 Special Assistant to the Administrator. Effective December 12, 2003.

DAGS00200 Special Assistant to the Secretary. Effective December 19, 2003.

DAGS00500 Special Assistant to the Chief of Staff. Effective December 31, 2003.

Section 213.3314 Department of Commerce

DCGS00623 Special Assistant to the Assistant Secretary for Market Access and Compliance. Effective December 2, 2003.

DCGS00395 Confidential Assistant to the Deputy Assistant Secretary for Export Promotion Services. Effective December 11, 2003.

DCGS00514 Policy Advisor to the Assistant Secretary for Export Enforcement. Effective December 15, 2003.

DCGS00539 Special Assistant to the Director, Executive Secretariat. Effective December 17, 2003.

DCGS00610 Chief of Staff to the Under Secretary for International Trade. Effective December 17, 2003.

DCGS00181 Senior Advisor to the Assistant Secretary for Telecommunications and Information. Effective December 22, 2003.

DCGS00290 Special Assistant to the Director, Office of Business Liaison. Effective December 22, 2003.

DCGS00640 Speechwriter to the Director of Public Affairs. Effective December 22, 2003.

DCGS00651 Public Affairs Specialist to the Director of Public Affairs. Effective December 22, 2003.

Section 213.3315 Department of Labor

DLGS60201 Special Assistant to the Secretary of Labor. Effective December 2, 2003.

DLGS60168 Intergovernmental Officer to the Assistant Secretary for Congressional and Intergovernmental Affairs. Effective December 3, 2003.

DLGS60196 Special Assistant to the Assistant Secretary for Veterans Employment and Training. Effective December 3, 2003.

DLGS60252 Special Assistant to the Director, 21st Century Workforce. Effective December 5, 2003.

DLGS60122 Senior Intergovernmental Officer to the Assistant Secretary for Congressional and Intergovernmental Affairs. Effective December 18, 2003.

DLGS60131 Special Assistant to the Assistant Secretary for Employment and Training. Effective December 19, 2003.

DLGS60118 Staff Assistant to the Secretary of Labor. Effective December 29, 2003.

DLGS60172 Special Assistant to the Director, Office of Faith Based and Community Initiatives. Effective December 29, 2003.

DLGS60277 Special Assistant to the Assistant Secretary for Administration and Management. Effective December 29, 2003.

Section 213.3316 Department of Health and Human Services

DHGS00666 Deputy Director for Intergovernmental Affairs (Operations) to the Director of Intergovernmental Affairs. Effective December 22, 2003.

DHGS60412 Regional Director, San Francisco, California, Region IX to the Director of Intergovernmental Affairs. Effective December 22, 2003.

Section 213.3317 Department of Education

DBGS60037 Deputy Assistant Secretary for Intergovernmental, Constituent Relations and Corporate Liaison to the Assistant Secretary for Intergovernmental and Interagency Affairs. Effective December 9, 2003.

DBGS00301 Deputy Assistant Secretary for Regional Services to the Assistant Secretary for Intergovernmental and Interagency Affairs. Effective December 11, 2003.

DBGS00303 Director, White House Initiative on Hispanic Education to the Chief of Staff. Effective December 17, 2003.

Section 213.3328 Broadcasting Board of Governors

IBGS00015 Senior Advisor to the Director. Effective December 18, 2003.

Section 213.3330 Securities and Exchange Commission

SEOT60033 Legislative Affairs Specialist to the Director of Legislative Affairs. Effective December 2, 2003.

Section 213.3331 Department of Energy

DEGS00381 Public Affairs Specialist to the Deputy Administrator for Defense Programs, National Nuclear Security Administration. Effective December 5, 2003.

DEGS00391 Policy Advisor to the Assistant Secretary for Fossil Energy. Effective December 17, 2003.

DEGS00338 Deputy White House Liaison and Assistant to the Chief of Staff reporting to the Deputy Chief of Staff/White House Liaison. Effective December 23, 2003.

DEGS00385 Senior Policy Advisor to the Director, Public Affairs. Effective December 23, 2003.

DEGS00387 Trip Coordinator to the Director, Office of Scheduling and Advance. Effective December 23, 2003.

Section 213.3331 Federal Energy Regulatory Commission

DRGS51517 Policy Adviser to a Member of the Commission. Effective December 19, 2003.

Section 213.3332 Small Business Administration

SBGS60533 Associate Administrator for Strategic Alliances to the Administrator. Effective December 11, 2003.

SBGS60151 Director of External Affairs to the Special Assistant (Scheduling). Effective December 22, 2003.

SBGS60199 Senior Advisor for Policy and Planning to the Administrator. Effective December 24, 2003.

Section 213.3337 General Services Administration

GSGS00087 Special Assistant to the Regional Administrator, (Region IX-San Francisco). Effective December 19, 2003.

Section 213.3355 Social Security Administration

SZGS00011 Special Assistant to the Deputy Commissioner of Social Security. Effective December 17, 2003.

Section 213.3376 Appalachian Regional Commission

APGS00004 Confidential Policy Advisor to the Federal Co-Chairman. Effective December 4, 2003.

Section 213.3379 Commodity Futures Trading Commission

CTGS60006 Administrative Assistant to a Commissioner. Effective December 23, 2003.

Section 213.3384 Department of Housing and Urban Development

DUGS60037 Staff Assistant to the Assistant Secretary for Congressional and Intergovernmental Relations. Effective December 22, 2003.

Authority: 5 U.S.C. 3301 and 3302; E.O.-10577, 3 CFR 1954-1958 Comp., P.218.

Office of Personnel Management.

Kay Coles James,
Director.

[FR Doc. 04-2150 Filed 2-3-04; 8:45 am]

BILLING CODE 6325-38-P